Title 3—

The President

Presidential Determination No. 2020-12 of September 28, 2020

Presidential Determination With Respect to the Efforts of Foreign Governments Regarding Trafficking in Persons

Memorandum for the Secretary of State

Consistent with section 110 of the Trafficking Victims Protection Act of 2000 (22 U.S.C. 7107) (the “Act”), as amended, I hereby determine as follows:

As provided for in section 110(d)(1)(A)(i) of the Act, and subject to the determinations below regarding assistance related to the COVID-19 pandemic, the Ebola virus disease, and meeting minimum standards for the elimination of trafficking in persons, I determine that the United States will not provide nonhumanitarian, nontrade-related assistance to the Governments of Burundi, China, Cuba, the Democratic People's Republic of Korea (DPRK), Eritrea, Iran, Nicaragua, Russia, and Syria for Fiscal Year (FY) 2021 until such governments comply with the Act's minimum standards or make significant efforts to bring themselves into compliance with the minimum standards.

As provided for in section 110(d)(1)(A)(ii) of the Act, and subject to the determinations below regarding assistance related to the COVID-19 pandemic, the Ebola virus disease, and meeting minimum standards for the elimination of trafficking in persons, I determine that the United States will not provide nonhumanitarian, nontrade-related assistance to, or allow funding for participation in educational and cultural exchange programs by officials or employees of, the Governments of Cuba, the DPRK, and Syria for FY 2021 until such governments comply with the Act's minimum standards for the elimination of trafficking or make significant efforts to bring themselves into compliance with the minimum standards.

As provided for in section 110(d)(1)(B) of the Act, and subject to the determinations below regarding assistance related to the COVID-19 pandemic, the Ebola virus disease, and meeting minimum standards for the elimination of trafficking in persons, I hereby instruct the United States Executive Director of each multilateral development bank, as defined in the Act, and of the International Monetary Fund to vote against and use best efforts to deny any loan or other utilization of the funds of the respective institution (other than for humanitarian assistance; for trade-related assistance; or for development assistance that directly addresses basic human needs, is not administered by the government of such country, and confers no benefit to that government) for the Governments of Burundi, China, Comoros, Cuba, the DPRK, Eritrea, Iran, Nicaragua, Russia, and Syria for FY 2021 until such governments comply with the Act's minimum standards or make significant efforts to bring themselves into compliance with the minimum standards.

Consistent with section 110(d)(4) of the Act, I determine that a partial waiver to allow assistance described in section 110(d)(1) of the Act for programs, projects, activities, and assistance to respond to the threat posed by the COVID-19 pandemic would promote the purposes of the Act or is otherwise in the national interest of the United States;

Consistent with section 110(d)(4) of the Act, I determine that a partial waiver to allow assistance described in section 110(d)(1) of the Act for programs, projects, activities, and assistance to respond to the threat posed by the Ebola virus disease would promote the purposes of the Act or is otherwise in the national interest of the United States;

Consistent with section 110(d)(4) of the Act, I determine that a partial waiver to allow assistance described in section 110(d)(1) of the Act for programs, projects, activities, and assistance designed to meet the minimum standards for the elimination of trafficking in persons would promote the purposes of the Act or is otherwise in the national interest of the United States;

Consistent with section 110(d)(4) of the Act, I determine that a partial waiver to allow assistance described in section 110(d)(1)(A)(i) of the Act with respect to Burma—with the exception of Global Health Programs (GHP), Peacekeeping Operations (PKO), Foreign Military Financing (FMF), International Military Education and Training (IMET), Foreign Military Sales (FMS), and Excess Defense Articles—would promote the purposes of the Act or is otherwise in the national interest of the United States;

Consistent with section 110(d)(4) of the Act, I determine that a partial waiver to allow IMET assistance with respect to Comoros would promote the purposes of the Act or is otherwise in the national interest of the United States;

Consistent with section 110(d)(4) of the Act, I determine that a partial waiver to allow PKO and Development Assistance with respect to South Sudan would promote the purposes of the Act or is otherwise in the national interest of the United States;

Consistent with section 110(d)(4) of the Act, I determine that the provision of all programs, projects, and activities described in section 110(d)(1)(A)(i) of the Act with respect to the Governments of Afghanistan, Algeria, Belarus, Lesotho, Papua New Guinea, Turkmenistan, and Venezuela would promote the purposes of the Act or is otherwise in the national interest of the United States; and

Consistent with section 110(d)(4) of the Act, I determine that providing the assistance described in section 110(d)(1)(B) of the Act to Afghanistan, Algeria, Belarus, Burma, Lesotho, Papua New Guinea, South Sudan, Turkmenistan, and Venezuela would promote the purposes of the Act or is otherwise in the national interest of the United States.

You are authorized and directed to submit this determination, the certification required by section 110(e) of the Act, and the Memorandum of Justification, on which I have relied, to the Congress, and to publish the determination in the Federal Register.

THE WHITE HOUSE,

Washington, September 28, 2020

[FR Doc. 2020-24894

Filed 11-5-20; 11:15 am]

Billing code 4710-10-P